NUCLEAR REGULATORY COMMISSION

[NRC-2014-0235; EA-14-181]

In the Matter of CB&I AREVA MOX Services, LLC

AGENCY: Nuclear Regulatory Commission.

ACTION: Order; extension of construction authorization completion date and administrative changes.

SUMMARY: The U.S. Nuclear Regulatory Commission (NRC) is issuing an Order for CB&I AREVA MOX Services (MOX Services, Licensee) (formerly known as Shaw AREVA MOX Services, LLC). The Licensee holds Construction Authorization (CA) CAMOX-001 which authorizes the construction of a Mixed Oxide Fuel Fabrication Facility (MFFF) at the U.S. Department of Energy (DOE) Savannah River Site in Aiken, South Carolina. The MFFF is currently partially completed.

DATES: Effective Date: November 13, 2014.

ADDRESSES: Please refer to Docket ID NRC-2014-0235 when contacting the NRC about the availability of information regarding this document. You may obtain publicly-available information related to this action by the following methods:

• Federal Rulemaking Web site: Go to http://www.regulations.gov and search for Docket ID NRC-2014-0235. Address questions about NRC dockets to Carol Gallagher; telephone 301-287-3422; email: Carol.Gallagher@nrc.gov. For questions about this Order, contact the individual listed in the FOR FURTHER INFORMATION CONTACT section of this document.

• NRC's Agencywide Documents and Access Management System (ADAMS): You may obtain publicly available documents online in the NRC Library at http://www.nrc.gov/reading-rm/adams.html. To begin the search, select “ADAMS Public Documents” and then select “Begin Web-based ADAMS Search.” For problems with ADAMS, please contact the NRC's Public Document Room (PDR) reference staff at 1-200-397-4209, 301-415-4737, or by email to pdr.resource@nrc.gov. The ADAMS accession number for each document referenced in this document (if that document is available in ADAMS) is provided the first time that a document is referenced.

• NRC's PDR: You may examine and purchase copies of public documents at NRC's PDR, Room 01-F21, One White Flint North, 11555 Rockville Pike, Rockville, Maryland 20852.

FOR FURTHER INFORMATION CONTACT: David Tiktinsky, Office of Nuclear Material Safety and Safeguards, U.S. Nuclear Regulatory Commission, Washington, DC 20555-0001; telephone: 301-287-9155; email: David.Tiktinsky@nrc.gov.

SUPPLEMENTARY INFORMATION: The text of the Order is attached.

Dated at Rockville, Maryland, this 18th day of November 2014.
For the Nuclear Regulatory Commission.
Merritt Baker,
Acting Branch Chief, Fuel Manufacturing Branch, Division of Fuel Cycle Safety, Safeguards, and Environmental Review, Office of Nuclear Material Safety and Safeguards.

In the Matter of: SHAW AREVA MOX SERVICES, LLC (Mixed Oxide Fuel Fabrication Facility), Docket No. 70-3098, Construction Authorization No. CAMOX-001 EA-14-181 Order Approving Extension of Construction Authorization and Administrative Changes

I.

CB&I AREVA MOX Services (MOX Services, Licensee) (formerly known as Shaw AREVA MOX Services, LLC) holds Construction Authorization (CA) CAMOX-001 which authorizes the construction of a Mixed Oxide Fuel Fabrication Facility (MFFF) at the U.S. Department of Energy (DOE) Savannah River Site in Aiken, South Carolina. The MFFF is currently partially completed.

On May 12, 2014 (Agencywide Documents Access and Management System [ADAMS] Accession No. ML14132A342), MOX Services filed a request for an extension of the CA completion date for the MFFF to March 30, 2025. MOX Services stated in its application that the extension is necessary to provide adequate time to complete construction of the MFFF. The construction authorization for the MFFF was originally issued on March 30, 2005, for a term of 10 years. MOX Services also stated in their May 12, 2014, request that various factors have contributed to the need for an extension of the CA. The factors include: (a) The MFFF is unique and is the first facility of this type to be licensed in the United States under Title 10 of the Code of Federal Regulations (10 CFR) Part 70; (b) annual funding/appropriations supporting construction activities have been less that the projected funding profile for several years; (c) requirements of nuclear procurements coupled with a shortage of qualified vendors have resulted in delayed delivery of components; (d) a shortage of qualified construction workers has resulted in longer durations for key construction activities, and (e) a 2-year delay between issuance of the CA and the start of nuclear construction.

In May 2014, MOX Services determined that, in order to bound the potential completion date of the facility with respect to the dependence of annual congressional funding, the CA's term should be extended to March 30, 2025.

In addition, the staff has made two administrative changes to the CA. The first change is a name change based on a letter from MOX Services dated August 15, 2014 (ML14227A556). The second change is a housekeeping amendment consisting of the removal of the list of submittals incorporated by reference in Attachment A of the CA, which have since been incorporated into the CA, environmental report, and the license application to possess and use radioactive material.

II.

The U.S. Nuclear Regulatory Commission (NRC) reviewed the request dated May 12, 2014, for an extension of time for the CA. MOX Services has demonstrated “good cause” for an extension to the CA because: (a) The proposed extension will not expand the scope of any work to be performed that is not already allowed by the existing construction authorization; (b) the licensee's factors for needing an extension to the CA were beyond their control and are logical; (c) the time requested is reasonable based on the uncertainty of funding for construction. The extension will grant the MOX Services or licensee additional time to complete construction in accordance with the previously approved CA. The requested extension does not impact the staffs' previous finding that the design basis of the Principal Structures, Systems and Components and the quality assurance program provide reasonable assurance against natural phenomena and the consequences of potential accidents as stated in the Revision 0 of the CA. The staff has also made two administrative changes to the CA. The first change is a name change based on a letter from MOX Services dated August 15, 2014 (ML14227A556). The name change does not reflect any change of direct or indirect control of the company or any other change in management, operation or security. The name of the company will now be known as CB&I AREVA MOX Services instead of Shaw AREVA MOX Services. The second change consists of the removal of the list of submittals incorporated by reference in Attachment A of the CA. This change is being made as a housekeeping item to avoid any potential confusion regarding commitments in the CA. All of the commitments, representations and statements made in the referenced documents were incorporated into the construction authorization request, environmental report, and the license application to possess and use radioactive material. Therefore, the conditions in Sections 3A and 3C of the CA supersede the references included in Attachment A, and the attachment is no longer needed. The attachment to the CA has therefore been deleted.

The NRC staff has prepared an environmental assessment for the CA extension and made a finding of no significant impact, which was published in the Federal Register on October 23, 2014 (79 FR 63442). The NRC staff previously evaluated the environmental impacts of construction and operation of this facility. In January 2005, the NRC staff issued NUREG-1767, “Final Environmental Impact Statement on the Construction and Operation of a Proposed Mixed Oxide Fuel Fabrication Facility at the Savannah River Site, South Carolina (Vol. 1: ML050240233; Vol. 2: ML050240250) (FEIS). The FEIS stated that after weighing the costs and benefits of the proposed action and comparing alternatives, the staff concluded that (a) the applicable environmental requirements set forth in FEIS Chapter 6, and (b) the proposed mitigation measures discussed in FEIS Chapter 5, would eliminate or substantially lessen any potential environmental impacts associated with the proposed action. The staff also concluded that the overall benefits of the proposed MOX facility outweigh its disadvantages and costs. The NRC staff determined that extending the construction completion date will not have significant effect on the quality of the human environment and therefore, an environmental impact statement for the proposed action would not be prepared.

For further details regarding this action, see MOX Service's letter dated May 12, 2014, and the NRC staff's letter and safety evaluation report (ADAMS Accession No. ML14225A705).

III.

In accordance with 10 CFR 2.202, the Licensee, and any other person adversely affected by this Order, may submit an answer to this Order within twenty (20) days of its publication in the Federal Register. In addition, the Licensee and any other person adversely affected by this Order may request a hearing of this Order within twenty (20) days of its publication in the Federal Register. Where good cause is shown, consideration will be given to extending the time to request a hearing. A request for extension of time must be made, in writing, to the Director, Office of Nuclear Material Safety and Safeguards, U.S. Nuclear Regulatory Commission, Washington, DC 20555-0001, and include a statement of good cause for the extension.

The answer may consent to this Order. If an answer includes a request for a hearing, it shall, under oath or affirmation, specifically set forth the matters of fact and law on which the Licensee, or other adversely affected person, relies and the reasons as to why the Order should not have been issued. If a person other than the Certificate Holder requests a hearing, that person shall set forth with particularity the manner in which his interest is adversely affected by this Order and shall address the criteria set forth in 10 CFR 2.309(d). The scope of a CA extension proceeding is limited to direct challenges to the CA holder's asserted reasons that show “good cause” justification for the delay.

If a hearing is requested by a Certificate Holder or a person whose interest is adversely affected, the Commission will issue an Order designating the time and place of any hearings. If a hearing is held, the issue to be considered at such hearing shall be whether this Order should be sustained. In the absence of any request for hearing, or any written approval of an extension of time in which to request a hearing, the provisions of this Order shall be final 20 days from the date this Order is published in the Federal Register without further order or proceedings. If an extension of time for requesting a hearing has been approved, the provisions specified in this Order shall be final when the extension expires if a hearing request has not been received.

IV.

Described in 10 CFR 2.302 are the requirements for filing of documents. All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 866-672-7640. The NRC Meta System Help Desk is available between 8 a.m. and 8 p.m., Eastern Time, Monday through Friday, excluding government holidays.

Participants who believe that they have a good cause for not submitting documents electronically must file an exemption request, in accordance with 10 CFR 2.302(g), with their initial filing requesting authorization to continue to use alternate format and transmission of documents. Such filings must be submitted by: (1) First class mail addressed to the Office of the Secretary of the Commission, U.S. Nuclear Regulatory Commission, Washington, DC 20555-0001, Attention: Rulemakings and Adjudications Staff, or (2) courier, express mail, or expedited delivery service to the Office of the Secretary, 16th Floor, One White Flint North, 11555 Rockville Pike, Rockville, MD 20852, Attention: Rulemakings and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

V.

Copies of the application to extend the expiration date in the CA for the MFFF are available for public inspection at the NRC's PDR, located at One White Flint North, Room O1-F21, 11555 Rockville Pike (first floor), Rockville, MD 20852. The application may be accessed in ADAMS through the NRC Library at http://www.nrc.gov/reading-rm/adams.html under ADAMS Accession No. ML14132A342. Persons who do not have access to ADAMS or who encounter problems in accessing the documents located in ADAMS, should contact the NRC's PDR reference staff by telephone at 1-800-397-4209, or 301-415-4737, or by email to PDR.Resource@nrc.gov.

VI.

IT IS HEREBY ORDERED THAT the completion date for CA No. CAMOX-001 is extended from March 30, 2015, to March 30, 2025, the company name is changed to CB&I AREVA MOX Services, and Attachment A of the CA has been deleted.

Dated at Rockville, Maryland, this 13th day of November 2014.
For the Nuclear Regulatory Commission.
Catherine Haney,
Director, Office of Nuclear Material Safety and Safeguards.

[FR Doc. 2014-27796 Filed 11-21-14; 8:45 am]

BILLING CODE 7590-01-P